DEPARTMENT OF ENERGY

Federal Energy Regulatory Commission

Notice of Application Tendered for Filing With the Commission and Soliciting Additional Study Requests

August 8, 2001.

Take notice that the following hydroelectric application has been filed with the Commission and is available for public inspection.

a. Type of Application: small hydroelectric exemption.

b. Project No.: 12094-000.

c. Date filed: July 24, 2001.

d. Applicant: Hydro Technology Systems, Inc.

e. Name of Project: 1910 Meyers Falls Hydroelectric Plant.

f. Location: On the Colville River, near the City of Kettle Falls, in Stevens County, Washington. The proposed exemption would not occupy any federal lands.

g. Filed Pursuant to: Federal Power Act 16 U.S.C. 791 (a)-825(r).

h. Applicant Contact: Michael E. Johnson, Hydro Technology Systems, Inc., P.O. Box 683 Kettle Falls, WA 99141; (509) 738-6544.

i. FERC Contact: John B. Smith, (202) 219-2460, john.smith@ferc.fed.us.

j. Deadline for filing additional study requests: September 22, 2001.

All documents (original and eight copies) should be filed with: David P. Boergers, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. See 18 CFR 385.2001(a)(1)(iii) and the instructions on the Commission's web site (http://www.ferc.gov) under the “e-Filing” link.

k. The application is not ready for environmental analysis at this time.

l. The proposed project would consist of: (1) The existing concrete intake structure, restored and equipped with a new trash screen and headgate, located on the south bank of the Colville River between 2 waterfalls; (2) a new 230-foot-long, 42-inch-diameter welded-steel penstock; (3) the existing 60-foot-long by 30-foot-wide concrete powerhouse restored and equipped with a new, horizontal Francis turbine coupled to a generator with an output rating of 300 kilowatts at a design turbine flow of 50 cubic feet per second; (4) a 200-foot-long transmission line; and (5) other appurtenances.

m. A copy of the application is on file with the Commission and is available for public inspection. This filing may also be viewed on the web at http://www.ferc.gov using the “RIMS” link—select “Docket #” and follow the instructions (call 202-208-2222 for assistance). A copy is also available for inspection and reproduction at the address in item h above.

n. With this notice, we are initiating consultation with the WASHINGTON STATE HISTORIC PRESERVATION OFFICER (SHPO), as required by § 106, National Historic Preservation Act, and the regulations of the Advisory Council on Historic Preservation, 36, CFR at 800.4.

David P. Boergers,
Secretary.

[FR Doc. 01-20344 Filed 8-13-01; 8:45 am]

BILLING CODE 6717-01-P